DEPARTMENT OF AGRICULTURE

Office of the Secretary

7 CFR Part 1a

Law Enforcement Authorities

CFR Correction

In Title 7 of the Code of Federal Regulations, Parts 1 to 26, revised as of January 1, 2015, on page 119, in § 1a.3, remove the phrase “subject to 1a. and” and add in its place “subject to 1a.5 and”.

[FR Doc. 2015-32137 Filed 12-21-15; 8:45 am]

BILLING CODE 1505-01-D